DEPARTMENT OF THE INTERIOR

National Park Service

[NPS-WASO-NRNHL-DTS#-34644; PPWOCRADI0, PCU00RP14.R50000]

National Register of Historic Places; Notification of Pending Nominations and Related Actions

AGENCY: National Park Service, Interior.

ACTION: Notice.

SUMMARY: The National Park Service is soliciting electronic comments on the significance of properties nominated before September 24, 2022, for listing or related actions in the National Register of Historic Places.

DATES: Comments should be submitted electronically by October 24, 2022.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 24, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

KENTUCKY

McCracken County

Paducah Northside Historic District, Roughly bounded by North 10th St., Park Ave., North 15th, and Northview St., Paducah, SG100008325

MISSOURI

Jasper County

Joplin East Town Historic District, Roughly bounded by Broadway Langston Hughes, Landreth Ave., Hill St., and Division Ave, Joplin, SG100008307

NEBRASKA

Colfax County

Merchant Park, (New Deal Work Relief Projects in Nebraska MPS), Corner of Higgins Dr. and Adams St., Schuyler, MP10000831

Douglas County

Stephenson and Williams Livery, (Warehouses in Omaha MPS), 1114 Florence Blvd., Omaha, MP100008314

Florence Commercial Historic District, (Streetcar-Era Commercial Development in Omaha, Nebraska MPS), 8500-8702 North 30th St., Omaha, MP100008315

Clifton Hill Commercial Historic District, (Streetcar-Era Commercial Development in Omaha, Nebraska MPS), 1900-2200 blks. Military Ave., Omaha, MP100008316

NEW YORK

Columbia County

Red Rock Schoolhouse, 459 Cty. Rd. 24, Red Rock, SG100008311, Muldor-Miller House, (Claverack MPS), 571 NY 23B, Claverack, MP100008312

Monroe County

Hickey-Freeman Company Building, 1155 North Clinton Ave., 24 Morrill St., and 313 Ave. D, Rochester, SG100008310

Crosman Terrace Historic District, 21 to 188 Crosman Terr., Rochester, SG100008317

Montgomery County

Fort Plain Historic District (Boundary Increase), Portions of Abbott, Canal, Hancock, Beck, Clyde, Douglas, Edwards, Erie, Garfield, Hancock, Henry, Herkimer, High, Main, Reid, River, Roof, State, Wagner, Webster, Willett, and Witter Sts.., Clark, Clinton, Gilbert, Silk, and Waddell Aves., Fort Plain, BC100008321

Ontario County

Bristol Center Methodist Episcopal Church, 4471 NY 64, Bristol vicinity, SG100008319

Wyoming County

Perry Village Hall, 46 North Main St., Perry, SG100008318

OREGON

Clatsop County

Cahill-Nordstrom Farm, 85926 Cahill Rd., Clatskanie vicinity, SG100008331

Marion County

Salem Civic Center Historic District, 555 Liberty St. SE, Salem, SG100008330

Multnomah County

Carey, Judge Charles Henry and Mary Bidwell, House, 1950 South Carey Ln., Portland, SG100008329

Polk County

Dallas Cinema, 166 SE Mill St., Dallas, SG100008328

VIRGINIA

Nelson County

Blue Ridge Tunnel, 215 Afton Depot Ln., Afton vicinity, SG100008324

Virginia Beach Independent City

Blue Marlin Lodge, (Virginia Beach Oceanfront Resort Motels and Hotels, 1955-1970 MPS), 2411 Pacific Ave., Virginia Beach, MP100008322

Crest Kitchenette Motel, (Virginia Beach Oceanfront Resort Motels and Hotels, 1955-1970 MPS), 3614 Atlantic Ave., Virginia Beach, MP100008323

Additional documentation has been received for the following resources:

ARKANSAS

Monroe County

La Belle House (Additional Documentation), (Thompson, Charles L., Design Collection TR), 312 New York Ave., Brinkley, AD82000866

NEW YORK

Montgomery County

Fort Plain Historic District (Additional Documentation), Portions of Abbott, Canal, Hancock, Beck, Clyde, Douglas, Edwards, Erie, Garfield, Hancock, Henry, Herkimer, High, Main, Reid, River, Roof, State, Wagner, Webster, Willett, and Witter Sts., Clark, Clinton, Gilbert, Silk, and Waddell Aves., Fort Plain, AD12000510

Authority: Section 60.13 of 36 CFR part 60.

Dated: September 28, 2022.
Sherry A. Frear,
Chief, National Register of Historic Places/National Historic Landmarks Program.

[FR Doc. 2022-21859 Filed 10-6-22; 8:45 am]

BILLING CODE 4312-52-P